SOCIAL SECURITY ADMINISTRATION

[Docket No. SSA-2020-0058]

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2020-0058].

The information collections below are pending at SSA. SSA will submit them to OMB within 60 days from the date of this notice. To be sure we consider your comments, we must receive them no later than January 26, 2021. Individuals can obtain copies of the collection instruments by writing to the above email address.

1. Partnership Questionnaire—20 CFR 404.1080-404.1082—0960-0025. SSA considers partnership income in determining entitlement to Social Security benefits. SSA uses information from Form SSA-7104 to determine several aspects of eligibility for benefits, including the accuracy of reported partnership earnings; the veracity of a retirement; and lag earnings where SSA needs this information to determine the status of the insured. The respondents are applicants for, and recipients of, Title II Social Security benefits who are reporting partnership earnings.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-7104 (submission via mail) | 6,175 | 1 | 30 | 3,088 | * 25.72 |  | *** 79,423
SSA-7104 (completed in or brought to a field office) | 6,175 | 1 | 30 | 3,088 | * 25.72 | ** 24 | *** 142,952
Totals | 12,350 |  |  | 6,176 |  |  | *** 222,375
* We based this figure on the average U.S. citizen's hourly salary, as reported by the U.S. Bureau of Labor Statistics (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

2. Statement of Marital Relationship (By one of the parties)—20 CFR 404.726—0960-0038. SSA must obtain a signed statement from a spousal applicant if the applicant claims a common-law marriage to the insured in a state in which such marriages are recognized, and no formal marriage documentation exists. SSA uses information we collect on Form SSA-754 to determine if an individual applying for spousal benefits meets the criteria of common-law marriage under state law. The respondents are applicants for spouse's Social Security benefits or Supplemental Security Income (SSI) payments.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-754 | 30,000 | 1 | 30 | 15,000 | * $25.72 | ** 24 | *** $694,440
* We based this figure on the average U.S. citizen's hourly salary, as reported by the U.S. Bureau of Labor Statistics (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

3. Application for Search of Census Records for Proof of Age—20 CFR 404.716—0960-0097. When preferred evidence of age is not available, or the available evidence is not convincing, SSA may ask the U.S. Department of Commerce, Bureau of the Census, to search its records to establish a claimant's date of birth. SSA collects information from claimants using Form SSA-1535 to provide the Census Bureau with sufficient identification information to allow an accurate search of census records. Additionally, the Census Bureau uses a completed, signed SSA-1535 to bill SSA for the search. The respondents are applicants for Social Security benefits who need to establish their date of birth as a factor of entitlement.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1535 | 18,030 | 1 | 12 | 3,606 | * $25.72 | ** 24 | *** $278,239
* We based this figure on the average U.S. citizen's hourly salary, as reported by the U.S. Bureau of Labor Statistics (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

4. Workers' Compensation/Public Disability Questionnaire—20 CFR 404.408—0960-0247. Section 224 of the Social Security Act (Act) provides for the reduction of disability insurance benefits (DIB) when the combination of DIB and any workers' compensation (WC) or certain Federal, State or local public disability benefits (PDB) exceeds 80 percent of the worker's pre-disability earnings. SSA field office staff conduct in-person interviews with applicants using the electronic SSA-546 WC/PDB screens in the Modernized Claims System (MCS) to determine if the worker's receipt of WC or PDB payments will cause a reduction of DIB. The respondents are applicants for the Title II DIB.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-546 (MCS Screens) | 248,000 | 1 | 15 | 62,000 | $10.73 | ** 24 | *** $1,729,676
* We based this figure on average DI payments based on SSA's current FY 2020 data (https://www.ssa.gov/legislation/2020Fact%20Sheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

5. Supplemental Security Income (SSI) Claim Information Notice—20 CFR 416.210—0960-0324. Section 1611(e)(2) of the Act requires individuals to file for and obtain all payments (annuities, pensions, disability benefits, veteran's compensation, etc.) for which they are eligible before qualifying for SSI payments. Individuals do not qualify for SSI if they do not first apply for all other benefits. SSA uses the information on Form SSA-L8050 to verify and establish a claimant's or recipient's eligibility under the SSI program. Respondents are SSI applicants or recipients who may be eligible for other payments from public or private programs.

Type of Request: Revision of an OMB-approved information collection.

Modality of completion | Number of respondents | Frequency of response | Average burden per response (minutes) | Estimated total annual burden (hours) | Average theoretical hourly cost amount (dollars) * | Total annual opportunity cost (dollars) **
SSA-L8050 | 17,044 | 1 | 10 | 2,841 | * $10.73 | ** $30,484
* We based this figure on average DI payments based on SSA's current FY 2020 data (https://www.ssa.gov/legislation/2020Fact%20Sheet.pdf).
** This figure does not represent actual costs that SSA is imposing on recipients of Social Security payments to complete this application; rather, these are theoretical opportunity costs for the additional time respondents will spend to complete the application. There is no actual charge to respondents to complete the application.

6. Medical Source Statement of Ability To Do Work Related Activities (Physical and Mental)—20 CFR 404.1512-404.1513, 416.912-416.913, 404.1517, and 416.917—0960-0662. When a claimant appeals a denied disability claim, SSA may ask the claimant to have a consultative examination at the agency's expense, if the claimant's medical sources cannot, or will not, give the agency sufficient evidence to determine whether the claimant is disabled. The medical providers who perform these consultative examinations provide a statement about the claimant's state of disability. Specifically, these medical source statements determine the work-related capabilities of these claimants. SSA collects the medical data on the HA-1151 and HA-1152 to assess the work-related physical and mental capabilities of claimants who appeal SSA's previous determination on their issue of disability. The respondents are medical sources who provide reports based either on existing medical evidence or on consultative examinations.

Type of Request: Revision of an OMB-approved information collection.

Modality of completion | Number of respondents | Frequency of response | Average burden per response (minutes) | Estimated total annual burden (hours) | Average theoretical hourly cost amount (dollars) * | Total annual opportunity cost (dollars) **
HA-1151 | 5,000 | 30 | 15 | 37,500 | * $40.21 | ** $1,507,875
HA-1152 | 5,000 | 30 | 15 | 37,500 | * $40.21 | ** $1,507,875
Totals | 10,000 |  |  | 75,000 |  | ** $3,015,750
* We based this figure on average medical professionals' salaries, as reported by the U.S. Bureau of Labor Statistics (https://www.bls.gov/oes/current/oes290000.htm).
** This figure does not represent actual costs that SSA is imposing on recipients of Social Security payments to complete this application; rather, these are theoretical opportunity costs for the additional time respondents will spend to complete the application. There is no actual charge to respondents to complete the application.

7. Objection to Appearing by Video Teleconferencing; Acknowledgement of Receipt (Notice of Hearing); Waiver of Written Notice of Hearing—20 CFR 404.935, 404.936; 404.938, 404.939, 416.1435, 416.1436, 416.1438, & 416.1439—0960-0671. SSA uses the information we obtain on Forms HA-55, HA-504, HA-504-OP1, HA-510, and HA-510-OP1 to manage the means by which we conduct hearings before an administrative law judge (ALJ), and the scheduling of hearings with an ALJ. We use the HA-55, Objection to Appearing by Video Teleconferencing, and its accompanying cover letter, HA-L2, to allow claimants to opt-out of an appearance via video teleconferencing (VTC) for their hearing with an ALJ. The HA-L2 explains the good cause stipulation for opting out of VTC if the claimant misses their window to submit the HA-55, and for verifying a new residence address if the claimant moved since submitting their initial hearing request. SSA uses the HA-504 and HA-504-OP1, Acknowledgement of Receipt (Notice of Hearing), and accompanying cover letter, HA-L83, to: (1) Acknowledge the claimants will appear for their hearing with an ALJ; (2) establish the time and place of the hearing; and (3) remind claimants to gather evidence in support of their claims. The only difference between the two versions of the HA-504 is the language used for the selection check boxes as determined by the type of appearance for the hearing (in-person, phone teleconference, or VTC). In addition, the cover letter, HA-L83, explains: (1) The claimants' need to notify SSA of their wish to object to the time and place set for the hearing; (2) the good cause stipulation for missing the deadline for objecting to the time and place of the hearing; and (3) how the claimants can submit, in writing, any additional evidence they would like the ALJ to consider, or any objections they have on their claims. The HA-510, and HA-510-OP1, Waiver of Written Notice of Hearing, allows the claimants to waive their right to receive the Notice of Hearing as specified in the HA-L83. We typically use these forms when there is a last minute available opening on an ALJ's schedule, so the claimants can fill in the available time slot. If the claimants agree to fill the time slot, we ask them to waive their right to receive the Notice of Hearing. We use the HA-510-OP1 at the beginning of our process for representatives and claimants who wish to waive the 20-day (for amended or continued hearing notices) or 75-day (for all other hearing notices) requirement earlier in the process, and the HA-510 later in the process for those representatives and claimants who want the full 20 or 75 days prior to the scheduled hearing. The respondents are applicants for Social Security disability payments who request a hearing to appeal an unfavorable entitlement or eligibility determination or their representative payees.

Modality of completion | Number of respondents | Frequency of response | Average burden per response (minutes) | Estimated total annual burden (hours) | Average theoretical hourly cost amount (dollars) * | Total annual opportunity cost (dollars) **
HA-504+ HA-504-OP1 HA-504-OP2 | 900,000 | 1 | 30 | 450,000 | * $18.22 | ** $8,199,000
HA-L83—404.936(e); 416.1436(e) | 900,000 | 1 | 30 | 450,000 | * 18.22 | ** 8,199,000
HA-L83—Good cause for missing deadline—404.936(e)(1); 416.1436(e)(1) | 5,000 | 1 | 5 | 417 | * 18.22 | ** 7,598
HA-L83—Objection stating issues in notice are incorrect—sent 5 days prior to hearing 404.939; 416.1439 | 45,000 | 1 | 5 | 3,750 | * 18.22 | ** 68,325
HA-55—404.936; 404.938; 416.1436; 416.1438 | 850,000 | 1 | 5 | 70,833 | * 18.22 | ** 1,290,577
HA-L2—Verification of New Residence 404.936(c)(1); 416.1436(d)(1) | 45,000 | 1 | 5 | 3,750 | * 18.22 | ** 68,325
HA-L2—Notification of objection to video teleconference more than 30-days after receipt of notice showing good cause 404.936(c)(2); 416.1436(d)(2) | 13,500 | 1 | 10 | 2,250 | * 18.22 | ** 40,995
HA-510; HA-510-OP1—404.938(a); 416.1438(a) | 4,000 | 1 | 2 | 133 | * 18.22 | ** 2,423
Totals | 2,762,500 |  |  | 981,133 |  | ** 17,876,243
+ Due to the COVID-19 pandemic, we are currently not conducting hearings in person with administrative law judges. We are holding all hearings with the administrative law judges by telephone and online video while offices remain closed. We are using different versions of the HA-504 depending on the format of the hearing (HA-504 is used for in-person/traditional VTC, HA-504-OP1 is used for phone, HA-504-OP2 is used for online video). At this time, we are unable to provide an accurate breakdown of their usages individually until offices reopen. The combined total for all of the versions is a good estimate.

Public Reporting Burdens for the Temporary COVID-19 Enhanced Outreach (CEO)

We estimate a total universe of approximately 560,000 respondents for the COVID-19 Enhanced Outreach (CEO) project. This number represents 280,000 cases in “Ready to Schedule” (RTS) and “Scheduled” (SCHD) statuses with attorney or non-attorney representatives, plus a courtesy copy to the claimant. We will also conduct a follow-up call for cases without a returned form. We expect 25% or less will be non-responsive. The numbers on this chart reflect our estimates for this outreach project:

Modality of completion | Number of respondents | Frequency of response | Average burden per response (minutes) | Estimated total annual burden (hours) | Average theoretical hourly cost amount (dollars) * | Total annual opportunity cost (dollars) **
CEO Letter and Form Mailed to Representative | 280,000 | 1 | 10 | 46,667 | * $25.72 | ** $1,200,275
Courtesy Copy of CEO Letter to Claimant | 280,000 | No response required | 2 | 9,333 | * 25.72 | ** 240,045
CEO Follow up Call with Representative—no form returned (non-responsive) | 70,000 | 1 | 5 | 5,833 | * 25.72 | ** 150,025
Totals | 630,000 |  |  | 61,833 |  | ** 1,590,345
Grand Total | 3,392,500 |  |  | 1,042,966 |  | ** $19,466,588
* We based these figures on average DI hourly wages for single students based on SSA's current FY 2020 data (https://www.ssa.gov/legislation/2020Fact%20Sheet.pdf), and on average U.S. citizen's hourly salary, as reported by Bureau of Labor Statistics data (https://www.bls.gov/oes/current/oes231011.htm), as well as a combination of those two figures (for the paper form, as we do not collect data on whether the paper forms are filled out by individuals or representatives or both).
** This figure does not represent actual costs that SSA is imposing on recipients of Social Security payments to complete this application; rather, these are theoretical opportunity costs for the additional time respondents will spend to complete the application. There is no actual charge to respondents to complete the application.

8. Medicare Subsidy Quality Review Forms—20 CFR 418.3125(b)(5)—0960-0707. The Medicare Modernization Act of 2003 mandated the creation of the Medicare Part D prescription drug coverage program and provides certain subsidies for eligible Medicare beneficiaries to help pay for the cost of prescription drugs. As part of the stewardship duties of the Medicare Part D subsidy program, SSA conducts periodic quality reviews of the information Medicare beneficiaries report on their subsidy applications (Form SSA-1020). SSA uses the Medicare Quality Review program to conduct these checks. The respondents are applicants for the Medicare Part D subsidy whom SSA chose to undergo a quality review.

Type of Request: Revision of an OMB-approved information collection.

Modality of completion | Number of respondents | Frequency of response | Average burden per response (minutes) | Estimated total annual burden (hours) | Average theoretical hourly cost amount (dollars) * | Total annual opportunity cost (dollars) **
SSA-9301 (Medicare Subsidy Quality Review Case Analysis Form | 3,500 | 1 | 30 | 1,750 | * $25.72 | ** $45,010
SSA-9302 (Notice of Quality Review Acknowledgment Form for those with Phones) | 3,500 | 1 | 15 | 875 | * $25.72 | ** $22,505
SSA-9303 (Notice of Quality Review Acknowledgment Form for those without Phones) | 350 | 1 | 15 | 88 | * $25.72 | ** $2,263
SSA-9308 (Request for Information) | 7,000 | 1 | 15 | 1,750 | * $25.72 | ** $45,010
SSA-9310 (Request for Documents) | 3,500 | 1 | 5 | 292 | * $25.72 | ** $7,510
SSA-9311 (Notice of Appointment- Denial -Reviewer Will Call) | 450 | 1 | 15 | 113 | * $25.72 | ** $2,906
SSA-9312 (Notice of Appointment-Denial-Please Call Reviewer) | 50 | 1 | 15 | 13 | * $25.72 | ** $334
SSA-9313 (Notice of Quality Review acknowledgment Form for those with Phones) | 2,500 | 1 | 15 | 625 | * $25.72 | ** $16,075
SSA-9314 (Notice of Quality Review acknowledgement Form for those without Phones) | 500 | 1 | 15 | 125 | * $25.72 | ** $3,215
Total | 21,350 |  |  | 5,631 |  | ** $144,828
* We based this figures on average U.S. citizen's hourly salary, as reported by Bureau of Labor Statistics data (https://www.bls.gov/oes/current/oes_nat.htm).
*** This figure does not represent actual costs that SSA is imposing on recipients of Social Security payments to complete this application; rather, these are theoretical opportunity costs for the additional time respondents will spend to complete the application. There is no actual charge to respondents to complete the application.

9. Application to Collect a Fee for Payee Services—20 CFR 404.2040a & 416.640a—0960-0719. Sections 205(j) and 1631(a) of the Act allow SSA to authorize certain organizational representative payees to collect a fee for providing payee services. Before an organization may collect this fee, they complete and submit Form SSA-445. SSA uses the information to determine whether to authorize or deny permission to collect fees for payee services. The respondents are private sector businesses, or State and local government offices, applying to become a fee-for-service organizational representative payee.

Type of Request: Revision of an OMB-approved information collection.

Modality of completion | Number of respondents | Frequency of response | Average burden per response (minutes) | Estimated total annual burden (hours) | Average theoretical hourly cost amount (dollars) * | Total annual opportunity cost (dollars) **
Private sector business | 90 | 1 | 13 | 20 | * $15.37 | ** $307
State/local government offices | 10 | 1 | 10 | 2 | * $15.07 | ** $30
Totals | 100 |  |  | 22 |  | ** $337
* We based these figures on average Personal Care and Service Occupations hourly wages (https://www.bls.gov/oes/current/oes390000.htm), as reported by Bureau of Labor Statistics data.
** This figure does not represent actual costs that SSA is imposing on recipients of Social Security payments to complete this application; rather, these are theoretical opportunity costs for the additional time respondents will spend to complete the application. There is no actual charge to respondents to complete the application.

10. Certification of Low Birth Weight for SSI Eligibility—20 CFR 416.924, 416.926, and 416.931—0960-0720. Hospitals and claimants use Form SSA-3380 to provide medical information to local field offices (FO) and the Disability Determination Services (DDS) on behalf of infants with low birth weight. FOs use the form as a protective filing statement and the medical information to make presumptive disability findings, which allow expedited payment to eligible claimants. DDSs use the medical information to determine disability and continuing disability. The respondents are hospitals and claimants who have information identifying low birth weight babies and their medical conditions.

Type of Request: Revision of an OMB-approved information collection.

Modality of completion | Number of respondents | Frequency of response | Average burden per response (minutes) | Estimated total annual burden (hours) | Average theoretical hourly cost amount (dollars) * | Total annual opportunity cost (dollars) **
SSA-3380 | 28,125 | 1 | 15 | 7,031 | * $61.97 | $435,711
* We based this figure by averaging the average U.S. worker's (https://www.bls.gov/oes/current/oes_nat.htm) and General Medical Hospital employee's hourly wages (https://www.bls.gov/oes/current/oes291215.htm), as reported by Bureau of Labor Statistics data.
** This figure does not represent actual costs that SSA is imposing on recipients of Social Security payments to complete this application; rather, these are theoretical opportunity costs for the additional time respondents will spend to complete the application. There is no actual charge to respondents to complete the application.

11. Electronic Records Express (Third Parties)—20 CFR 404.1700—404.1715—0960-0767. Electronic Records Express (ERE) is an online system which enables medical providers and various third party representatives to electronically access clients' disability files online and submit disability claimant information electronically to SSA as part of the disability application process. To ensure only authorized people access ERE, SSA requires third parties to complete a unique registration process if they wish to use this system. This information collection request (ICR) includes the third-party registration process and the burden for submitting evidence to SSA is part of other, various ICRs. The respondents are representatives of disability applicants who want to use ERE to electronically access clients' disability files online and submit information to SSA.

Type of Request: Revision of an OMB-approved information collection.

Modality of completion | Number of respondents | Frequency of response | Average burden per response (minutes) | Estimated total annual burden (hours) | Average theoretical hourly cost amount (dollars) * | Total annual opportunity cost (dollars) **
ERE Third-Party | 37,314 | 81 | 1 | 50,374 | * $59.11 | ** $2,977,607
* We based this figures on average Lawyer's hourly salary, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

Dated: November 23, 2020.
Naomi Sipple,
Reports Clearance Officer, Social Security Administration.

[FR Doc. 2020-26178 Filed 11-25-20; 8:45 am]

BILLING CODE 4191-02-P